DEPARTMENT OF HEALTH AND HUMAN SERVICES

Health Resources and Services Administration

Agency Information Collection Activities: Proposed Collection: Comment Request

In compliance with the requirement for opportunity for public comment on proposed data collection projects (section 3506(c)(2)(A) of Title 44, U.S.C, as amended by the Paperwork Reduction Act of 1995, Pub. L. 104-13), the Health Resources and Services Administration (HRSA) publishes periodic summaries of proposed projects being developed for submission to the Office of Management and Budget under the Paperwork Reduction Act of 1995. To request more information on the proposed project or to obtain a copy of the data collection plans and draft instruments, call the HRSA Reports Clearance Officer on (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including the use of automated collection techniques or other forms of information technology.

Proposed Project: National Health Service Corps (NHSC) Travel Request Worksheet, Non-Federal Personnel—In Use Without Approval

The National Health Service Corps (NHSC) of the HRSA's Bureau of Health Professions (BHPr), is committed to improving the health of the Nation's underserved by uniting communities in need with caring health professionals and by supporting communities' efforts to build better systems of care.

The Travel Request Worksheet is used by Scholarship Program recipients to receive travel support to perform pre-employment interviews at sites on the Approved Practice List at the Federal Government's expense. The travel approval process is initiated when the scholar notifies the NHSC's In-Service Support Branch or the respective Bureau of Prisons, Indian Health Service, and Immigration and Naturalization Service recruitment office of an impending interview at one or more NHSC approved practice sites.

The Travel Request Worksheet is also used to initiate the relocation process. Upon receipt of the Travel Request Worksheet, the NHSC will review and approve the request and promptly notify the NHSC contractor authorizing the funding for the relocation.

Estimates of annualized reporting burden are as follows:

Type of Respondent | Number of respondents | Responses per respondent | Hours per response | Total burden hours
Health Care Professionals | 311 | 1 | .066 | 21

Send comments to Susan G. Queen, Ph.D., HRSA Reports Clearance Officer, Room 11A-33, Parklawn Building, 5600 Fishers Lane, Rockville, MD 20857. written comments should be received within 60 days of this notice.

Dated: October 15, 2002.
Jane M. Harrison,
Director, Division of Policy Review and Coordination.

[FR Doc. 02-26669 Filed 10-18-02; 8:45 am]

BILLING CODE 4165-15-P